SMALL BUSINESS ADMINISTRATION

[Disaster Declaration #15187 and #15188 Tennessee Disaster Number TN-00105]

Presidential Declaration Amendment of a Major Disaster for Public Assistance Only for the State of Tennessee

AGENCY: U.S. Small Business Administration.

ACTION: Amendment 1.

SUMMARY: This is an amendment of the Presidential declaration of a major disaster for Public Assistance Only for the State of Tennessee (FEMA-4320-DR), dated 06/23/2017.

Incident: Severe Storms, Straight-line Winds, and Flooding.

Incident Period: 05/27/2017 through 05/28/2017.

DATES: Issued on 07/19/2017.

Physical Loan Application Deadline Date: 08/22/2017.

Economic Injury (EIDL) Loan Application Deadline Date: 03/23/2018.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416, (202) 205-6734

SUPPLEMENTARY INFORMATION: The notice of the President's major disaster declaration for Private Non-Profit organizations in the State of Tennessee, dated 06/23/2017, is hereby amended to include the following areas as adversely affected by the disaster.

Primary Counties: Jackson, Jefferson.

All other information in the original declaration remains unchanged.

(Catalog of Federal Domestic Assistance Numbers 59002 and 59008)

James E. Rivera,
Associate Administrator for Disaster Assistance.

[FR Doc. 2017-15613 Filed 7-25-17; 8:45 am]

BILLING CODE 8025-01-P